DEPARTMENT OF AGRICULTURE

Agricultural Marketing Service

[Docket Number FV-06-301]

United States Standards for Grades of Mixed Commodities

AGENCY: Agricultural Marketing Service, USDA.

ACTION: Notice.

SUMMARY: The Agricultural Marketing Service (AMS) of the Department of Agriculture (USDA) is soliciting comments on the proposed voluntary United States Standards for Grades of Mixed Commodities. This action is being taken at the request of the Fruit and Vegetable Industry Advisory Committee, which asked AMS to identify products that may be better served if grade standards are developed. The proposed standards would provide industry with a common language and uniform basis for trading, thus promoting orderly and efficient marketing of fresh produce shipments containing different commodities packaged in the same container.

DATES: Comments must be received by March 27, 2006.

ADDRESSES: Interested persons are invited to submit written comments to the Standardization Section, Fresh Products Branch, Fruit and Vegetable Programs, Agricultural Marketing Service, U.S. Department of Agriculture, 1400 Independence Ave., SW., Room 1661, South Building, Stop 0240, Washington, DC 20250-0240, fax (202) 720-8871, e-mail FPB.DocketClerk@usda.gov. Comments should make reference to the dates and page number of this issue of the Federal Register and will be made available for public inspection in the above office during regular business hours and on the Internet.

The draft of the proposed United States Standards for Grades of Mixed Commodities is available by accessing AMS, Fresh Products Branch Web site at: http://www.ams.usda.gov/fv/fpbdocketlist.htm.

FOR FURTHER INFORMATION CONTACT: Cheri L. Emery, at the above address or call (202) 720-2185, e-mail Cheri.Emery@usda.gov.

SUPPLEMENTARY INFORMATION: Section 203(c) of the Agricultural Marketing Act of 1946 (7 U.S.C. 1621-1627), as amended, directs and authorizes the Secretary of Agriculture to develop and improve standards of quality, condition, quantity, grade and packaging and recommend and demonstrate such standards in order to encourage uniformity and consistency in commercial practices. AMS is committed to carrying out this authority in a manner that facilitates the marketing of agricultural commodities and makes copies of official standards available upon request. The United States Standards for Grades of Fruits and Vegetables not connected with Federal Marketing Orders or U.S. Import Requirements, no longer appear in the Code of Federal Regulations, but are maintained by the USDA/AMS/Fruit and Vegetable Programs.

AMS is proposing to establish voluntary United States Standards for Grades of Mixed Commodities using the procedures that appear in Part 36, Title 7 of the Code of Federal Regulations (7 CFR part 36).

Background

At a meeting of the Fruit and Vegetable Industry Advisory Committee, AMS was asked to identify fresh fruit and vegetables that may be better served if grade standards are developed. AMS identified fresh produce that are uniformly packaged with different types of commodities in the same container, as possibly in need of official grade standards. Such standards are used by the fresh produce industry to describe the products they are trading, thus facilitating the marketing of those products.

AMS has developed proposed voluntary grade standards for shipments of mixed commodities. These standards would establish a grade U.S. Mixed as well as sections pertaining to sampling, tolerances, application of tolerances, and definitions for Injury, Damage and Serious Damage.

The adoption of these proposed standards would provide the ever expanding mixed commodity industry with U.S. grade standards similar to those extensively in use by the fresh produce industry to assist in orderly marketing of other commodities.

The official grade of a lot of mixed commodities covered by these standards will be determined by the procedures set forth in the Regulations Governing Inspection, Certification, and Standards of Fresh Fruits, Vegetables and Other Products (Sec. 51.1 to 51.61).

This notice provides for a 60 day comment period for interested parties to comment on the proposed United States Standards for Grades of Mixed Commodities.

Authority: 7 U.S.C. 1621-1627.

Dated: January 18, 2006.
Lloyd C. Day,
Administrator, Agricultural Marketing Service.

[FR Doc. E6-780 Filed 1-23-06; 8:45 am]

BILLING CODE 3410-02-P